DEPARTMENT OF LABOR

Employment and Training Administration

[TA-W-58,181; TA-W-58,181A]

Stimson Lumber Company Atlas Division; Coeur D'alene, Idaho; Including an Employee of Stimson Lumber Company Atlas Division; Coeur D'alene, Idaho; Located In Portland, Oregon; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification of Eligibility to Apply for Worker Adjustment Assistance and Alternative Trade Adjustment Assistance on November 21, 2005, applicable to workers of Stimson Lumber Company, Atlas Division, Coeur d'Alene, Idaho. The notice was published in the Federal Register on November 21, 2005 (70 FR 74368).

At the request of the State agency, the Department reviewed the certification for workers of the subject firm.

New information provided by a company official shows that a member of the worker group, Gregory O'Neal, working off-site in Portland, Oregon, was separated from employment when the Coeur d'Alene, Idaho plant closed. Mr. O'Neal provided marketing support services related to the pine and cedar boards produced by Stimson Lumber Company, Atlas Division, Coeur d'Alene, Idaho.

The intent of the Department's certification is to include all workers of Stimson Lumber Company, Atlas Division, Coeur d'Alene, Idaho, who were adversely affected by increased company imports.

Accordingly, the Department is amending this certification to include the employee of Stimson Lumber Company, Atlas Division, Coeur d'Alene, Idaho, working in Portland, Oregon.

The amended notice applicable to TA-W-58,181 is hereby issued as follows:

All workers of Stimson Lumber Company, Atlas Division, Coeur d'Alene, Idaho, including an employee of Stimson Lumber Company, Atlas Division, Coeur d'Alene, Idaho located in Portland, Oregon, who became totally or partially separated from employment on or after October 20, 2004 through November 21, 2007, are eligible to apply for adjustment assistance under section 223 of the Trade Act of 1974, and are also eligible to apply for alternative trade adjustment assistance under section 246 of the Trade Act of 1974.

Signed in Washington, DC, this 12th day of September 2006.
Richard Church,
Certifying Officer, Division of Trade Adjustment Assistance.

[FR Doc. E6-15630 Filed 9-20-06; 8:45 am]

BILLING CODE 4510-30-P